DEPARTMENT OF JUSTICE

Notice of Lodging of Consent Decree Under the Comprehensive Environmental Response, Compensation, and Liability Act

In accordance with 28 U.S.C. 50.7, notice is hereby given that on January 31, 2005, a proposed consent Decree in United States v. Thomasville Furniture Industries, Inc. et al., Civ. No. 6:05CV00001, was lodged with the United States District Court for the Western District of Virginia.

The proposed consent decree would resolve the United States' claims, on behalf of the Environmental Protection Agency (“EPA”), under Section 107(a) of the Comprehensive Environmental Response, Compensation, and Liability Act (“CERCLA”), 42 U.S.C. 9607(a), against Thomasville Furniture Industries, Inc., (“Thomasville”), Univar U.S.A., Inc. (“Univar”), and Buckingham County, a political subdivision of the Commonwealth of Virginia, to recover costs incurred by the United States in performing response actions at the Buckingham County Landfill Superfund Site (“Site”) in Dillwyn, Virginia as set forth in the terms of the decree.

Both Thomasville and Univar are liable for the United States' response costs under Section 107(a)(3) of CERCLA, 42 U.S.C. 9607(a)(3), because they, or their predecessors, arranged for disposal of CERCLA listed hazardous materials at the Site which led to a release of hazardous substances causing EPA to incur response costs. Buckingham County is liable for the United States' response costs under Section 107(a)(1) of CERCLA, 42 U.S.C. 9607(a)(1), as the current owner and operator of the Site.

Under the terms of the Consent Decree, Thomasville, Univar, and Buckingham County have agreed to pay $1,976,000 of EPA's unreimbursed response costs of $2,052,458.26 at the Site. The United States has reserved its right to pursue an additional $171,688, incurred to implement a discrete drum removal action at the Site in 1999, from Buckingham County in a separate action. The proposed settlement addresses past costs only, and thus the Consent Decree reserves all parties' rights with regard to future costs, except for the Defendants' statute of limitations defenses.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Thomasville Furniture Industries, Inc. et al., Civ. No. 6:05CV00001, D.J. Ref. 90-11-2-07971.

The Consent Decree may be examined at the Office of the United States Attorney for the Western District of Virginia, 105 Franklin Road, SW., Suite 1, Roanoke, VA 24011. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Consent Decree from the Consent Decree Library, please enclose a check in the amount of $22.50 (90 pages at 25 cents per page reproduction cost) payable to the U.S. Treasury.

Robert D. Brook,
Assistant Section Chief, Environmental Enforcement Section, Environment and Natural Resources Division.

[FR Doc. 05-3011 Filed 2-16-05; 8:45 am]

BILLING CODE 4410-15-M